DEPARTMENT OF COMMERCE

International Trade Administration

[A-588-804]

Notice of Final Results of Antidumping Duty Changed-Circumstances Review: Ball Bearings and Parts Thereof from Japan

AGENCY: Import Administration, International Trade Administration, Department of Commerce.

SUMMARY: On March 23, 2006, the Department of Commerce (the Department) published a notice of initiation and the preliminary results of its changed-circumstances review of the antidumping duty order on ball bearings and parts thereof from Japan in which it preliminarily determined that JTEKT Corporation is the successor-in-interest to Koyo Seiko Company, Ltd., and that, as such, JTEKT is entitled to the cash-deposit rate of Koyo Seiko Company, Ltd., with respect to entries of subject merchandise. We gave interested parties the opportunity to comment on our preliminary results. We received no comments. Therefore, for these final results, the Department is adopting its preliminary determination that JTEKT Corporation is the successor-in-interest to Koyo Seiko Company, Ltd.

EFFECTIVE DATE: May 5, 2006.

FOR FURTHER INFORMATION CONTACT: Edythe Artman at (202) 482-3931 or Richard Rimlinger at (202) 482-4477, AD/CVD Operations, Office 5, Import Administration, International Trade Administration, U.S. Department of Commerce, 14th Street and Constitution Avenue, NW., Washington, DC 20230.

SUPPLEMENTARY INFORMATION:

Background

The Department of Commerce (the Department) published antidumping duty orders on ball bearings, cylindrical roller bearings, and spherical plain bearings and parts thereof from Japan on May 15, 1989. See Antidumping Duty Orders: Ball Bearings, Cylindrical Roller Bearings, and Spherical Plain Bearings, and Parts Thereof from Japan, 54 FR 20904 (May 15, 1989). The orders on cylindrical roller bearings and spherical plain bearings and parts thereof from Japan were revoked, effective January 1, 2000. See Revocation of Antidumping Duty Orders on Certain Bearings From Hungary, Japan, Romania, Sweden, France, Germany, Italy, and the United Kingdom, 65 FR 42667 (July 11, 2000). Koyo Seiko Company, Ltd., and Koyo Corporation of U.S.A. (collectively Koyo) have participated in numerous administrative reviews of the order on ball bearings and parts thereof from Japan.

On February 3, 2006, Koyo informed the Department that Koyo Seiko Company, Ltd. (Koyo Seiko), had changed its name to JTEKT Corporation (JTEKT) and petitioned the Department to conduct a changed-circumstances review to confirm that JTEKT is the successor-in-interest to Koyo Seiko for purposes of determining antidumping-duty liabilities subject to this order.¹ Koyo also requested that the Department conduct a changed-circumstances review on an expedited basis, pursuant to 19 CFR 351.221(c)(3)(ii). In support of its requests, Koyo submitted a press release announcing the start of JTEKT due to the merger of Koyo Seiko and another company on January 1, 2006, the certification of JTEKT's history that is recorded in the registration book maintained by the local government authority, and sales and marketing documentation disseminated to Koyo Seiko's customers by JTEKT.

¹ Koyo clarified in its February 3, 2006, submission that the name of Koyo Corporation of U.S.A. will remain unchanged at this time.

Upon review of the information submitted by Koyo, the Department determined that an expedited review was practicable and, on March 23, 2006, issued a combined notice of initiation and preliminary results. See Ball Bearings and Parts Thereof from Japan: Initiation and Preliminary Results of Changed-Circumstances Review, 71 FR 14679 (March 23, 2006) (Preliminary Results). In its Preliminary Results, the Department provided all interested parties with an opportunity to comment or request a public hearing regarding the Department's finding that JTEKT is the successor-in-interest to Koyo Seiko. We did not receive any comments or any requests for a public hearing.

Scope of the Order

For a listing of scope determinations which pertain to the order on ball bearings and parts thereof, see the Scope Determination Memorandum from the Antifriction Bearings Team to Laurie Parkhill, dated March 2, 2006. This memorandum is on file in the Central Records Unit (CRU), main Commerce building, Room B-099, in the General Issues record (A-100-001) for the 2004/2005 administrative reviews of the orders on ball bearings and parts thereof from various countries, including Japan.

Final Results of Changed-Circumstances Review

For the reasons stated in the Preliminary Results and because we received no comments to the contrary, we continue to find that JTEKT is the successor-in-interest to Koyo Seiko. Consequently, we will instruct U.S. Customs and Border Protection (CBP) to apply the cash-deposit rate in effect for Koyo Seiko to all entries of the subject merchandise from JTEKT that were entered, or withdrawn from warehouse, for consumption on or after the date of publication of the final results of this changed-circumstances review. See Granular Polytetrafluoroethylene Resin from Italy: Final Results of Antidumping Duty Changed Circumstances Review, 68 FR 25327 (May 12, 2003).

This determination and this notice are in accordance with sections 751(b)(1) and 777(i)(1) of the Act and 19 CFR 351.216.

Dated: April 27, 2006.
David M. Spooner,
Assistant Secretary for Import Administration.

[FR Doc. E6-6878 Filed 5-4-06; 8:45 am]

BILLING CODE 3510-DS-S